DEPARTMENT OF ENERGY

Federal Energy Regulatory Commission

[Docket No. CP03-346-000]

Transcontinental Gas Pipe Line Corporation; Notice of Application

August 12, 2003.

Take notice that on August 4, 2003, Transcontinental Gas Pipe Line Corporation (Transco), pursuant to and in accordance with Section 7(b) of the Natural Gas Act (NGA) and part 157 of the Commission's Regulations, filed an application, in abbreviated form, in Docket No. CP03-346-000 for an order permitting and approving the abandonment of storage service under Rate Schedule LG-A provided to UGI Utilities, Inc., as more fully described therein.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Take further notice that, pursuant to the authority contained in and subject to jurisdiction conferred upon the Commission by Sections 7 and 15 of the Natural Gas Act and the Commission's Rules of Practice and Procedure, a hearing will be held without further notice before the Commission on this application if no petition to intervene is filed within the time required herein, if the Commission on its own review of the matter finds that a grant of the abandonment of service is required by the public convenience and necessity. If a protest or petition for leave to intervene is timely filed, or if the Commission on its own motion believes that a formal hearing is required, further notice of such hearing will be duly given. Under the procedure herein provided for, unless otherwise advised, it will be unnecessary for Transco to appear or be represented at the hearing.

Comment Date: August 25, 2003.

Linda Mitry,
Acting Secretary.

[FR Doc. 03-21095 Filed 8-15-03; 8:45 am]

BILLING CODE 6717-01-P